DEPARTMENT OF THE INTERIOR

Fish and Wildlife Service

50 CFR Part 17

[Docket No. FWS-R2-ES-2009-0083; MO 92210-0-0009]

RIN 1018-AV84

Endangered and Threatened Wildlife and Plants; Listing and Designation of Critical Habitat for the Three Forks Springsnail and San Bernardino Springsnail

AGENCY: Fish and Wildlife Service, Interior.

ACTION: Proposed rule; reopening of comment period.

SUMMARY: We, the U.S. Fish and Wildlife Service (Service), announce the reopening of the public comment period on the April 12, 2011, proposed endangered status and designation of critical habitat for the Three Forks springsnail (Pyrgulopsis trivialis) and the San Bernardino springsnail (Pyrgulopsis bernardina) under the Endangered Species Act of 1973, as amended (Act). We are proposing to revise the previously proposed critical habitat for the Three Forks springsnail by increasing the size of the Boneyard Bog Springs Unit to 5.3 acres (2.1 hectares), and by adding an additional unit, the Boneyard Creek Springs Unit. In total, we are proposing to designate as critical habitat 17.1 acres (6.9 hectares) for the Three Forks springsnail. We also announce the availability of a draft economic analysis (DEA) of the proposed designation of critical habitat and an amended required determinations section of the proposal. We are reopening the comment period to allow all interested parties an opportunity to comment simultaneously on the revised proposed rule, the associated DEA, and the amended required determinations section. Comments previously submitted need not be resubmitted, as they will be fully considered in preparation of the final rule.

DATES: We will consider comments received on or before December 19, 2011. Comments must be received by 11:59 p.m. Eastern Time on the closing date. Any comments that we receive after the closing date may not be considered in the final decision on this action.

ADDRESSES: You may submit written comments by one of the following methods:

(1) Electronically: Go to the Federal eRulemaking Portal: http://www.regulations.gov. Search for Docket No. FWS-R2-ES-2009-0083, which is the docket number for this rulemaking.

(2) By hard copy: Submit by U.S. mail or hand-delivery to: Public Comments Processing, Attn: FWS-R2-ES-2009-0083; Division of Policy and Directives Management; U.S. Fish and Wildlife Service; 4401 N. Fairfax Drive, MS 2042-PDM; Arlington, VA 22203.

We will post all comments on http://www.regulations.gov. This generally means that we will post any personal information you provide us (see the Public Comments section below for more information).

FOR FURTHER INFORMATION CONTACT: Steve Spangle, Field Supervisor, Arizona Ecological Services Field Office, 2321 West Royal Palm Road, Suite 103, Phoenix, AZ 85021; telephone (602) 242-0210; facsimile (602) 242-2513. Persons who use a telecommunications device for the deaf (TDD) may call the Federal Information Relay Service (FIRS) at (800) 877-8339.

SUPPLEMENTARY INFORMATION:

Public Comments

We will accept written comments and information during this reopened comment period on our proposed listing and designation of critical habitat for the Three Forks springsnail and San Bernardino springsnail that published in the Federal Register on April 12, 2011 (76 FR 20464), revisions to the proposed critical habitat, our DEA of the proposed designation, and the amended required determinations provided in this document. We will consider information and recommendations from all interested parties. We are particularly interested in comments concerning:

(1) The reasons why we should or should not designate habitat as “critical habitat” under section 4 of the Act (16 U.S.C. 1531 et seq.), including whether there are threats to the species from human activity, the degree of which can be expected to increase due to the designation, and whether that increase in threat outweighs the benefit of designation such that the designation of critical habitat is not prudent.

(2) Specific information on:

(a) The distribution of the Three Forks springsnail and San Bernardino springsnail;

(b) The amount and distribution of the species' habitat;

(c) What areas occupied by the species at the time of listing that contain features essential for the conservation of the species we should include in the designation and why; and

(d) What areas not occupied at the time of listing are essential to the conservation of the species and why.

(3) Land use designations and current or planned activities in the subject areas and their possible impacts on proposed critical habitat.

(4) Any foreseeable economic, national security, or other relevant impacts, that may result from designating any area that may be included in the final designation. We are particularly interested in any impacts on small entities, and the benefits of including or excluding areas from the proposed designation that are subject to these impacts.

(5) Whether our approach to designating critical habitat could be improved or modified in any way to provide for greater public participation and understanding, or to assist us in accommodating public concerns and comments.

(6) Information on the extent to which the description of economic impacts in the DEA is complete and accurate.

(7) The likelihood of adverse social reactions to the designation of critical habitat and how the consequences of such reactions, if likely to occur, would relate to the conservation and regulatory benefits of the proposed critical habitat designation.

If you submitted comments or information on the proposed rule (76 FR 20464; April 12, 2011) during the initial comment period from April 12, 2011, to June 13, 2011, please do not resubmit them. We will incorporate them into the public record as part of this comment period, and we will fully consider them in the preparation of our final determination. Our final determination concerning critical habitat will take into consideration all written comments and any additional information we receive during both comment periods. On the basis of public comments, we may, during the development of our final determination, find that areas proposed are not essential, are appropriate for exclusion under section 4(b)(2) of the Act, or are not appropriate for exclusion.

You may submit your comments and materials concerning the proposed rule or DEA by one of the methods listed in the ADDRESSES section. We will not consider comments sent by email or fax or to an address not listed in the ADDRESSES section.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule and DEA, will be available for public inspection on http://www.regulations.gov at Docket No. FWS-R2-ES-2009-0083, or by appointment, during normal business hours, at the U.S. Fish and Wildlife Service, Arizona Ecological Services Field Office (see FOR FURTHER INFORMATION CONTACT). You may obtain copies of the proposed rule and the DEA on the Internet at http://www.regulations.gov at Docket Number FWS-R2-ES-2009-0083, or by mail from the Arizona Ecological Services Field Office (see FOR FURTHER INFORMATION CONTACT).

Background

It is our intent to discuss only those topics directly relevant to the proposed listing and designation of critical habitat for Three Forks springsnail and San Bernardino springsnail in this document. For more information on previous Federal actions concerning these species, refer to the proposed designation of critical habitat published in the Federal Register on April 12, 2011 (76 FR 20464), which is available online at http://www.regulations.gov (at Docket Number FWS-R2-ES-2009-0083) or from the Arizona Ecological Services Field Office (see FOR FURTHER INFORMATION CONTACT).

Previous Federal Actions

On April 12, 2011 (76 FR 20464), we published a proposed rule to list as endangered and designate critical habitat for the Three Forks springsnail and San Bernardino springsnail. We proposed to designate approximately 11.1 acres (ac) (4.5 hectares (ha)) in Arizona in two units located in Apache County as critical habitat for Three Forks springsnail and 2.013 ac (0.815 ha) in four units located in Cochise County as critical habitat for San Bernardino springsnail. That proposal had a 60-day comment period, ending June 13, 2011. We received no requests for a public hearing, and, therefore, no public hearing will take place.

Critical Habitat

Section 3 of the Act defines critical habitat as the specific areas within the geographical area occupied by a species, at the time it is listed in accordance with the Act, on which are found those physical or biological features essential to the conservation of the species and that may require special management considerations or protection, and specific areas outside the geographical area occupied by a species at the time it is listed, upon a determination that such areas are essential for the conservation of the species. If the proposed rule is made final, section 7 of the Act will prohibit destruction or adverse modification of critical habitat by any activity funded, authorized, or carried out by any Federal agency. Federal agencies proposing actions affecting critical habitat must consult with us on the effects of their proposed actions, under section 7(a)(2) of the Act.

New Information and Changes From the Previously Proposed Critical Habitat

In this document, we are notifying the public of changes to the proposed critical habitat rule. In the April 12, 2011, proposed rule (76 FR 20464), we mentioned that springsnails of the same genus as the Three Forks springsnail were recently found in a spring along Boneyard Creek between Three Forks Springs and Boneyard Bog Springs (Myers 2010, p. 1), but additional analysis was needed for a definitive determination of its taxonomy. Building on the field work of Myers (2010), Myers (2011, p. 5) found additional populations of Pyrgulopsis springsnails along Boneyard Creek. These additional populations are located in the same watershed and in between the two previously known locations, Three Forks Springs and Boneyard Bog Springs. The new populations found in Boneyard Creek are less than 1 mile (mi) (1.6 kilometer (km)) downstream from Boneyard Bog Springs and less than 2 mi (3.2 km) upstream of Three Forks Springs. Due to the proximity of these new populations in relation to Three Forks Springs and Boneyard Bog Springs, we believe that they are the same species. Two different species of springsnails occurring together in the same area is very rare (Liu et al. 2003, p. 2779). If there were different species of springsnails occurring together in this watershed, we can reasonably assume that other springsnail species would have been previously found in either the Three Forks Springs or Boneyard Bog Springs. Based on this information, we believe that the new populations of springsnails found in Boneyard Creek are Three Forks springsnails species.

Also, since publication of the April 12, 2011, proposed rule (76 FR 20464), we have new information regarding the taxonomy of springsnails in Sonora, Mexico. We mentioned in the proposed rule that a springsnail belonging to the same family as the San Bernardino springsnail occurs in two cienegas, or spring ecosystems, in Sonora, Mexico, about 0.25 miles (mi) (0.4 kilometers (km)) south of the San Bernardino National Wildlife Refuge, but additional research was needed to verify if they were the same species as San Bernardino springsnails. Since publication of the proposed rule, we have new information that verifies springsnails in the two cienegas (spring ecosystems in the desert Southwest) in Sonora, Mexico, are San Bernardino springsnails (Varela Romero and Myers 2010, p. 10). However, we will not designate critical habitat for the species in either of those cienegas, because we do not designate critical habitat outside the United States. As such, there are no changes to critical habitat as proposed on April 12, 2011, for the San Bernardino springsnail.

We are proposing to revise our proposed critical habitat designation for the Three Forks springsnail by increasing the size of the Boneyard Bog Springs Unit from 5.0 ac (2.0 ha) to 5.3 ac (2.1 ha) to capture an additional springhead that was discovered since the publication of the proposed rule. In addition, we are proposing a new unit, Boneyard Springs Creek Unit, which is approximately 5.8 ac (2.3 ha) in size, to encompass the newly discovered populations of Three Forks springsnails described above. In total, we are proposing to designate as critical habitat 17.1 ac (6.9 ha) for the Three Forks springsnail. For a full description of the previously proposed units for this species, please see the proposed critical habitat rule (76 FR 20464; April 12, 2011).

In the proposed listing and designation of critical habitat rule (76 FR 20464; April 12, 2011), we identified specific sites that were currently occupied by Three Forks and San Bernardino springsnails, which contained the physical and biological features that are essential to the conservation of the species, and which may require special management considerations or protection. Subsequent to the publication of the proposed listing and critical habitat rule, we discovered new populations of Three Forks springsnails in areas that contain the essential physical and biological features. Therefore, the purpose of this proposed revision to the proposed critical habitat is to include these new areas that are currently occupied by Three Forks springsnail, contain the physical or biological features essential to the conservation of the species, and meet the definition of critical habitat. We believe the additional unit included in the proposed designation would provide for the conservation of Three Forks springsnail by:

(1) Maintaining the physical and biological features essential to the conservation of the species where the species is known to occur, and

(2) Maintaining the current distribution, thus preserving genetic variation throughout the range of the species and minimizing the potential effects of local extirpation.

Proposed Critical Habitat Designation

We are proposing to revise the previously proposed critical habitat for the Three Forks springsnail by increasing the size of the Boneyard Bog Springs Unit, and by adding an additional unit, the Boneyard Creek Springs Unit. The proposed critical habitat units constitute our current and best assessment of the areas that meet the definition of critical habitat for the species. Proposed critical habitat for the Three Forks Spring Unit for the Three Forks springsnail, and all previously proposed units for the San Bernardino springsnail, are unchanged from our descriptions in the April 12, 2011, proposed rule (76 FR 20464), and are not repeated in this document. We present below brief descriptions of the revised Boneyard Bog Springs Unit and the new Boneyard Creek Springs Unit, and reasons why they meet the definition of critical habitat for the Three Forks springsnail.

Boneyard Bog Springs Unit

The proposed Boneyard Bog Springs Unit is a complex of springs, spring runs, spring seeps, and the segment of Boneyard Creek connecting them, and a small amount of upland area encircling them to make them a single unit of approximately 5.3 ac (2.1 ha), in the vicinity of UTM Zone 12 coordinate 659970, 3750730, in Apache County, Arizona. The entire unit is in Federal ownership and managed by the Apache-Sitgreaves National Forests of the U.S. Forest Service. The unit encompasses eight major springheads and spring runs, each of which flows several yards (meters) to Boneyard Creek, a tributary of the Black River. The spring complex contains spring seeps along the spring runs and the tributary. We are proposing to designate a single critical habitat unit that includes the springheads, spring runs, seeps, and that portion of Boneyard Creek that connects the spring runs. Boneyard Creek is occupied where spring seeps are present along it, and the proposed unit provides for springsnail movement among the occupied seeps, spring runs, and springs, and is essential for habitat connectivity. The area within the proposed unit contains approximately 3.3 feet (ft) (1.0 meter (m)) in width of upland area adjacent to the springheads, spring runs, spring seeps, and tributary segment. The moist soils and vegetation in the adjacent uplands are essential to the species because they produce food for the snails and protect the substrate.

Threats to the Three Forks springsnail in this unit that may require special management of the physical and biological features include wildfire, fire retardant used to fight wildfires, elk grazing, predation by nonnative crayfish, and potential competition from nonnative snails. Also, human-caused changes to the adjacent uplands, which may pose a threat to the aquatic habitats in this proposed unit, can be managed through conservation efforts by Arizona Game and Fish Department and through consultations between the U.S. Forest Service and the U.S. Fish and Wildlife Service under section 7 of the Act. This proposed unit contains all the primary constituent elements and supports all of the Three Forks springsnail's life processes.

Boneyard Creek Springs Unit

The proposed Boneyard Creek Springs Unit is a complex of springs, spring runs, spring seeps, and the segment of Boneyard Creek connecting them, and a small amount of upland area encompassing them, in a single unit of approximately 5.8 ac (2.3 ha), in the vicinity of UTM Zone 12 coordinate 658300, 3749790, in Apache County, Arizona. The entire unit is in Federal ownership and managed by the Apache-Sitgreaves National Forests of the U.S. Forest Service. The unit encompasses at least 11 major springheads and spring runs, which each flow a distance of several yards (meters) to Boneyard Creek, a tributary of the Black River. The spring complex contains spring seeps along the spring runs and the tributary. We are proposing to designate a single critical habitat unit that includes the springheads, spring runs, seeps, and that portion of Boneyard Creek that connects the spring runs. Boneyard Creek is occupied where there are spring seeps along it and provides for springsnail movement among the occupied seeps, spring runs, and springs, and is essential for habitat connectivity. The area within the proposed unit contains approximately 3.3 ft (1.0 m) in width of upland area adjacent to the springheads, spring runs, spring seeps, and tributary segment. The moist soils and vegetation in the adjacent uplands are essential to the species, because they produce food for the snails and protect the substrate they use.

Threats to the Three Forks springsnail in this unit that may require special management of the physical and biological features include wildfire, fire retardant used to fight wildfires, elk grazing, predation by nonnative crayfish, and potential competition from nonnative snails. Also, human-caused changes to the adjacent uplands, which might pose a threat to the aquatic habitats, can be managed through conservation efforts by Arizona Game and Fish Department and through consultations between U.S. Forest Service and U.S. Fish and Wildlife Service under section 7 of the Act. This proposed unit contains all the primary constituent elements and supports all of the Three Forks springsnail's life processes.

Consideration of Impacts Under Section 4(b)(2) of the Act

Section 4(b)(2) of the Act requires that we designate or revise critical habitat based upon the best scientific data available, after taking into consideration the economic impact, impact on national security, or any other relevant impact of specifying any particular area as critical habitat. We may exclude an area from critical habitat if we determine that the benefits of excluding the area outweigh the benefits of including the area as critical habitat, provided such exclusion will not result in the extinction of the species.

When considering the benefits of inclusion for an area, we consider the additional regulatory benefits that area would receive from the protection from adverse modification or destruction as a result of actions with a Federal nexus (activities conducted, funded, permitted, or authorized by Federal agencies), the educational benefits of mapping areas containing essential features that aid in the recovery of the listed species, and any benefits that may result from designation due to State or Federal laws that may apply to critical habitat.

When considering the benefits of exclusion, we consider, among other things, whether exclusion of a specific area is likely to result in conservation; the continuation, strengthening, or encouragement of partnerships; or implementation of a management plan. In the case of Three Forks springsnail and San Bernardino springsnail, the benefits of critical habitat include public awareness of the presence of the species and the importance of habitat protection, and, where a Federal nexus exists, increased habitat protection for the species due to protection from adverse modification or destruction of critical habitat. In practice, situations with a Federal nexus exist primarily on Federal lands or for projects undertaken by Federal agencies.

We have not proposed to exclude any areas from critical habitat. However, the final decision on whether to exclude any areas will be based on the best scientific data available at the time of the final designation, including information obtained during the comment period and information about the economic impact of designation. Accordingly, we have prepared a draft economic analysis concerning the proposed critical habitat designation (DEA), which is available for review and comment (see ADDRESSES section).

Draft Economic Analysis

The purpose of the DEA is to identify and analyze the potential economic impacts associated with the proposed critical habitat designation for the Three Forks springsnail and San Bernardino springsnail. The DEA describes the economic impacts of all potential conservation efforts for the Three Forks springsnail and San Bernardino springsnail; some of these costs will likely be incurred regardless of whether we designate critical habitat. The economic impact of the proposed critical habitat designation is analyzed by comparing scenarios both “with critical habitat” and “without critical habitat.” The “without critical habitat” scenario represents the baseline for the analysis, considering protections already in place for the species (e.g., under the Federal listing and other Federal, State, and local regulations). The baseline, therefore, represents the costs incurred regardless of whether critical habitat is designated. The “with critical habitat” scenario describes the incremental impacts associated specifically with the designation of critical habitat for the species. The incremental conservation efforts and associated impacts are those not expected to occur absent the designation of critical habitat for the species. In other words, the incremental costs are those attributable solely to the designation of critical habitat, above and beyond the baseline costs; these are the costs we may consider in the final designation of critical habitat when evaluating the benefits of excluding particular areas under section 4(b)(2) of the Act. Thus, the analysis forecasts both baseline and incremental impacts likely to occur if we finalize the proposed listing and critical habitat designation. For a further description of the methodology of the analysis, see Chapter 2, “Framework for the Analysis,” of the DEA.

The DEA provides estimated costs of the foreseeable potential economic impacts of the proposed critical habitat designation for the Three Forks springsnail and San Bernardino springsnail over the next 12 years, which was determined to be the appropriate period for analysis because limited planning information is available for most activities to forecast activity levels for projects beyond a 12-year timeframe. It identifies potential incremental costs as a result of the proposed critical habitat designation; these are those costs attributed to critical habitat over and above those baseline costs attributed to listing. The DEA quantifies economic impacts of Three Forks springsnail and San Bernardino springsnail conservation efforts associated with the following categories of activity: (1) Pesticide use, (2) groundwater pumping, (3) wildfire suppression, and (4) management of ungulate grazing. Additionally, the DEA quantifies economic impacts of additional administrative costs associated with the following categories of activity: (1) Additional effort to address adverse modification in a new consultation, and (2) incremental consultation resulting entirely from critical habitat designation. Total undiscounted costs are estimated at $70,700. The estimated costs are limited to administrative impacts that are likely to result from the designation of critical habitat.

As we stated earlier, we are soliciting data and comments from the public on the DEA, as well as all aspects of the proposed rule and our amended required determinations. We may revise the proposed rule or supporting documents to incorporate or address information we receive during the public comment period. In particular, we may exclude an area from critical habitat if we determine that the benefits of excluding the area outweigh the benefits of including the area, provided the exclusion will not result in the extinction of this species.

Required Determinations—Amended

In our April 12, 2011, proposed rule (76 FR 20464), we indicated that we would defer our determination of compliance with several statutes and executive orders until the information concerning potential economic impacts of the designation and potential effects on landowners and stakeholders became available in the DEA. We have now made use of the DEA data to make these determinations. In this document, we affirm the information in our proposed rule concerning Executive Order (E.O.) 12866 (Regulatory Planning and Review), E.O. 12630 (Takings), E.O. 13132 (Federalism), E.O. 12988 (Civil Justice Reform), E.O. 13211 (Energy, Supply, Distribution, and Use), the Unfunded Mandates Reform Act (2 U.S.C. 1501 et seq.), the Paperwork Reduction Act of 1995 (44 U.S.C. 3501 et seq.), the National Environmental Policy Act (42 U.S.C. 4321 et seq.), and the President's memorandum of April 29, 1994, “Government-to-Government Relations with Native American Tribal Governments” (59 FR 22951). However, based on the DEA data, we are amending our required determination concerning the Regulatory Flexibility Act (5 U.S.C. 601 et seq.).

Regulatory Flexibility Act

Under the Regulatory Flexibility Act, as amended by the Small Business Regulatory Enforcement Fairness Act (5 U.S.C. 802(2)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. Based on our DEA of the proposed designation, we provide our preliminary regulatory flexibility analysis. Based on comments we receive, we may revise this determination as part of our final rule.

According to the Small Business Administration, small entities include small organizations, such as independent nonprofit organizations; small governmental jurisdictions, including school boards and city and town governments that serve fewer than 50,000 residents; and small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term “significant economic impact” is meant to apply to a typical small business firm's business operations.

To determine if the proposed designation of critical habitat for the Three Forks springsnail and San Bernardino springsnail would affect a substantial number of small entities, we considered the number of small entities affected within particular types of economic activities, such as ranch operations. In order to determine whether it is appropriate for our agency to certify that this proposed rule would not have a significant economic impact on a substantial number of small entities, we considered each industry or category individually. In estimating the numbers of small entities potentially affected, we also considered whether their activities have any Federal involvement. Critical habitat designation will not affect activities that do not have any Federal involvement; designation of critical habitat only affects activities conducted, funded, permitted, or authorized by Federal agencies. In areas where the springsnails are present, once the species are listed, the Federal agencies are required to consult with us under section 7 of the Act on activities they fund, permit, or implement that may affect the species. If we finalize this proposed critical habitat designation, consultations to avoid the destruction or adverse modification of critical habitat would be incorporated into the existing consultation process.

In the DEA, we evaluated the potential economic effects on small entities resulting from implementation of conservation actions related to the proposed designation of critical habitat for the Three Forks springsnail and San Bernardino springsnail. Currently, livestock grazing is excluding from all units so no cattle operators will be impacted by the designation of critical habitat. The DEA does not anticipate impacts to small entities as a result of this designation, as all units are on State or federally owned land. Please refer to the DEA of the proposed critical habitat designation for a more detailed discussion of potential economic impacts.

In summary, we have considered whether the proposed designation would result in a significant economic impact on a substantial number of small entities. Information for this analysis was gathered from the Small Business Administration, stakeholders, and the Service. For the above reasons and based on currently available information, we certify that, if promulgated, the proposed critical habitat designation would not have a significant economic impact on small business entities. Therefore, an initial regulatory flexibility analysis is not required.

References Cited

A complete list of all references cited in this proposed rule is available on the Internet at http://www.regulations.gov or upon request from the Field Supervisor, Arizona Ecological Services Field Office (see FOR FURTHER INFORMATION CONTACT).

Authors

The primary authors of this notice are the staff members of the Arizona Ecological Services Field Office, Southwest Region, U.S. Fish and Wildlife Service.

List of Subjects in 50 CFR Part 17

Endangered and threatened species, Exports, Imports, Reporting and recordkeeping requirements, Transportation.

Proposed Regulation Promulgation

Accordingly, we propose to further amend part 17, subchapter B of chapter I, title 50 of the Code of Federal Regulations, which was proposed to be amended at 76 FR 20464, April 12, 2011, as follows:

PART 17—ENDANGERED AND THREATENED WILDLIFE AND PLANTS

1. The authority citation for part 17 continues to read as follows:

Authority: 16 U.S.C. 1361-1407; 16 U.S.C. 1531-1544; 16 U.S.C. 4201-4245; Pub. L. 99-625, 100 Stat. 3500, unless otherwise noted.

2. In § 17.95(f), amend the proposed entry for “Three Forks Springsnail (Pyrgulopsis trivialis),” which we proposed at 76 FR 20464 on April 12, 2011, by:

a. Revising proposed paragraph (f)(5);

b. Revising proposed paragraph (f)(7); and

c. Adding a new paragraph (f)(8), to read as set forth below.

§ 17.95 Critical habitat—fish and wildlife.

* * * * *

(f) Clams and Snails.

* * * * *

Three Forks Springsnail (Pyrgulopsis trivialis)

* * * * *

(5) Note: Index map of critical habitat for the Three Forks springsnail follows:

BILLING CODE 4310-55-P

BILLING CODE 4310-55-C

* * * * *

(7) Boneyard Bog Springs Unit (2.1 ha; 5.3 ac). The Boneyard Bog Springs Unit consists of all areas within boundary points with the following coordinates in UTM Zone 12 with the units in meters using North American Datum of 1983 (NAD 83): 659968, 3750753; 659990, 3750731; 660021, 3750713; 660060, 3750717; 660070, 3750742; 660176, 3750787; 660190, 3750781; 660199, 3750758; 660208, 3750744; 660159, 3750685; 660125, 3750680; 660088, 3750684; 660081, 3750690; 660072, 3750691; 660072, 3750676; 660076, 3750675; 660076, 3750664; 660069, 3750664; 660067, 3750663; 660060, 3750654; 660052, 3750648; 660034, 3750649; 660029, 3750654; 660027, 3750663; 660008, 3750659; 659997, 3750649; 659997, 3750639; 659988, 3750639; 659982, 3750641; 659958, 3750660; 659954, 3750671; 659945, 3750675; 659942, 3750688; 659933, 3750685; 659904, 3750662; 659889, 3750669; 659885, 3750687; 659902, 3750702; 659919, 3750712; Thence returning to 659968, 3750753.

(8) Boneyard Creek Springs Unit (2.3 ha; 5.8 ac). The Boneyard Creek Springs Unit consists of all areas within boundary points with the following coordinates in UTM Zone 12 with the units in meters using North American Datum of 1983 (NAD 83): 658758, 3750008; 658765, 3749996; 658763, 3749984; 658732, 3749975; 658714, 3749981; 658698, 3749968; 658661, 3749971; 658655, 3749981; 658655, 3749998; 658642, 3750000; 658638, 3750024; 658623, 3750034; 658606, 3750036; 658580, 3750029; 658568, 3750020; 658553, 3750013; 658537, 3750005; 658519, 3749993; 658507, 3749985; 658492, 3749992; 658479, 3749976; 658469, 3749960; 658467, 3749945; 658460, 3749935; 658452, 3749913; 658405, 3749863; 658371, 3749841; 658343, 3749805; 658312, 3749789; 658273, 3749741; 658272, 3749733; 658268, 3749725; 658261, 3749722; 658254, 3749720; 658242, 3749699; 658211, 3749682; 658184, 3749655; 658140, 3749634; 658119, 3749610; 658074, 3749624; 658024, 3749603; 657999, 3749549; 657932, 3749492; 657916, 3749492; 657904, 3749509; 657912, 3749527; 657933, 3749545; 657982, 3749559; 658020, 3749623; 658072, 3749642; 658111, 3749632; 658129, 3749649; 658174, 3749667; 658201, 3749691; 658223, 3749705; 658246, 3749743; 658311, 3749811; 658336, 3749826; 658403, 3749893; 658410, 3749904; 658420, 3749908; 658434, 3749917; 658447, 3749962; 658473, 3749991; 658493, 3750013; 658509, 3750003; 658523, 3750019; 658528, 3750030; 658538, 3750043; 658564, 3750055; 658584, 3750053; 658598, 3750061; 658616, 3750068; 658657, 3750052; 658658, 3750032; 658656, 3750020; 658667, 3750002; 658666, 3749982; 658692, 3749984; 658712, 3749994; 658730, 3749994; Thence returning to 658758, 3750008.

* * * * *

Dated: November 8, 2011.
Rachel Jacobson,
Acting Assistant Secretary for Fish and Wildlife and Parks.

[FR Doc. 2011-29780 Filed 11-16-11; 8:45 am]

BILLING CODE 4310-55-P